DEPARTMENT OF TRANSPORTATION

Federal Aviation Administration

14 CFR Part 71

[Docket No. FAA-2005-20056; Airspace Docket No. 05-AEA-01]

Amendment of Class E Airspace; Harrisburg, PA

Correction

In rule document 05-7191 beginning on page 18295 in the issue of Monday, April 11, 2005, make the following correction:

§71.1 [Corrected]

On page 18296, in §71.1, in the second column, under the heading

AEA PA E5 Harrisburg, PA (Revised)

,

in the third line, “ling” should read “line”.

[FR Doc. C5-7191 Filed 5-9-05; 8:45 am]

BILLING CODE 1505-01-D